DEPARTMENT OF DEFENSE

Office of the Secretary

[Docket ID DOD-2011-OS-0027]

Privacy Act of 1974; Systems of Records

AGENCY: Defense Logistics Agency.

ACTION: Notice to alter a system of records.

SUMMARY: The Defense Logistics Agency proposes to alter a system of records notice in its existing inventory of records systems subject to the Privacy Act of 1974, (5 U.S.C. 552a), as amended.

DATES: This proposed action will be effective without further notice on April 4, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Jody Sinkler at (703) 767-5045, or the Privacy Act Officer, Headquarters, Defense Logistics Agency, Attn: DGA, 8725 John J. Kingman Road, Stop 16443, Fort Belvoir, VA 22060-6221.

SUPPLEMENTARY INFORMATION: The Defense Logistics Agency systems of records notices subject to the Privacy Act of 1974, (5 U.S.C. 552a), as amended, have been published in the Federal Register and are available from the FOR FURTHER INFORMATION CONTACT address above.

The proposed system reports, as required by 5 U.S.C. 552a (r), of the Privacy Act of 1974, as amended, were submitted on February 25, 2011, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: March 1, 2011.
Morgan F. Park,
Alternate OSD Federal Register Liaison Officer, Department of Defense.

S200.10

System name:

Individual Military Personnel Records (November 16, 2004, 69 FR 67112).

* * * * *

System identifier:

Delete entry and replace with “S310.07.”

System name:

Delete entry and replace with “Military Personnel System.”

System location:

Delete entry and replace with “Director, Defense Logistics Agency (DLA) Human Resources Center-Military, Military Personnel and Administration (DHRC-M), 8725 John J. Kingman Road, Suite 2533, Fort Belvoir, VA 22060-6221, and in the Personnel Offices of the DLA Primary Level Field Activities (PLFAs). Official mailing addresses may be obtained from the system manager identified in this notice.”

* * * * *

Categories of records in the system:

Delete entry and replace with “Records contain name, grade, Social Security Number (SSN), e-mail, home address, personnel requisitions, assignments and transfers, personnel qualification record extracts, decorations and awards, special orders, evaluation reports, non-judicial punishment documents, position descriptions, promotions documents, retention on Active Duty documents, retirement, resignation, separation documents, clearance certificates, leave/pass of absence documentation, and military training documents.”

Authority for maintenance of the system:

Delete entry and replace with “10 U.S.C. Part II, Personnel; 5 U.S.C. 301, Departmental Regulations; and E.O. 9397 (SSN), as amended.”

Purpose(s):

Delete entry and replace with “The records are maintained as a local repository of documents generated during the service member's assignment at DLA. The files are used to manage, administer, and document the service member's assignment; to provide career advice to service members; and to advise PLFA Commanders and the Director of incidents. The data is also used for reports on force effectiveness, contingency planning, training requirements, and manpower deficiencies. Rating official data is included in the database for management oversight purposes; however, the files are not retrieved or retrievable by rater name, SSN, or other rater attributes.

* * * * *

Retrievability:

Delete entry and replace with “Records are retrieved by the individual's name, SSN, or a combination of both.”

Safeguards:

Delete entry and replace with “Records are maintained in a secure, limited access, and monitored work area. Physical entry by unauthorized persons is restricted by the use of locks, guards, and administrative procedures. Access to personal information is restricted to those who require the records in the performance of their official duties. Access to computer records is further restricted by the use of passwords and/or Common Access Cards (CAC). All personnel whose official duties require access to the information are trained in the proper safeguarding and use of the information and received Information Assurance and Privacy Act training.”

Retention and disposal:

Delete entry and replace with “Upon reassignment from DLA, records are destroyed after 1 year.”

System manager(s) and address:

Delete entry and replace with “Director, DLA Human Resources Center-Military, Military Personnel and Administration (DHRC-M), 8725 John J. Kingman Road, Suite 2533, Fort Belvoir, VA 22060-6221, and the Heads of the DLA Primary Level Field Activities.”

Notification procedure:

Delete entry and replace with “Individuals seeking to determine whether information about themselves is contained in this system should address written inquiries to the DLA Privacy Office, Headquarters, Defense Logistics Agency, Attn: DGA, 8725 John J. Kingman Road, Suite 1644, Fort Belvoir, VA 22060-6221.

“Inquiries should contain the individual's full name, SSN, mailing address and telephone number.”

Record access procedures:

Delete entry and replace with “Individuals seeking access to information about themselves contained in this system should address written inquiries to the DLA Privacy Office, Headquarters, Defense Logistics Agency, Attn: DGA, 8725 John J. Kingman Road, Suite 1644, Fort Belvoir, VA 22060-6221.

“Inquiries should contain the individual's full name, SSN, mailing address and telephone number.”

Contesting record procedures:

Delete entry and replace with “The DLA rules for accessing records, for contesting contents, and appealing initial agency determinations are contained in 32 CFR part 323, or may be obtained from the DLA Privacy Office, Headquarters, Defense Logistics Agency, Attn: DGA, 8725 John J. Kingman Road, Suite 1644, Fort Belvoir, VA 22060-6221.”

Record source categories:

Delete entry and replace with “Information is provided by the individual, taken from military personnel records, and position distribution reports.”

* * * * *

S310.07

System name:

Military Personnel System.

System location:

Director, Defense Logistics Agency (DLA) Human Resources Center-Military, Military Personnel and Administration (DHRC-M), 8725 John J. Kingman Road, Suite 2533, Fort Belvoir, VA 22060-6221, and in the Personnel Offices of the DLA Primary Level Field Activities (PLFAs). Official mailing addresses may be obtained from the system manager identified in this notice.

Categories of individuals covered by the system:

Active Duty military personnel assigned to DLA.

Categories of records in the system:

Records contain name, grade, Social Security Number (SSN), e-mail, home address, personnel requisitions, assignments and transfers, personnel qualification record extracts, decorations and awards, special orders, evaluation reports, non-judicial punishment documents, position descriptions, promotions documents, retention on Active Duty documents, retirement, resignation, separation documents, clearance certificates, leave/pass of absence documentation, and military training documents.

Authority for maintenance of the system:

10 U.S.C. Part II, Personnel; 5 U.S.C. 301, Departmental Regulations; and E.O. 9397 (SSN), as amended.

Purpose(s):

The records are maintained as a local repository of documents generated during the service member's assignment at DLA. The files are used to manage, administer, and document the service member's assignment; to provide career advice to service members; and to advise PLFA Commanders and the Director of incidents. The data is also used for reports on force effectiveness, contingency planning, training requirements, and manpower deficiencies. Rating official data is included in the database for management oversight purposes; however, the files are not retrieved or retrievable by rater name, SSN, or other rater attributes.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD “Blanket Routine Uses” apply to this system of records.

Storage:

Records may be stored on paper and on electronic storage media.

Retrievability:

Records are retrieved by the individual's name, SSN, or a combination of both.

Safeguards:

Records are maintained in a secure, limited access, and monitored work area. Physical entry by unauthorized persons is restricted by the use of locks, guards, and administrative procedures. Access to personal information is restricted to those who require the records in the performance of their official duties. Access to computer records is further restricted by the use of passwords and/or Common Access Cards (CAC). All personnel whose official duties require access to the information are trained in the proper safeguarding and use of the information and received Information Assurance and Privacy Act training.

Retention and disposal:

Upon reassignment from DLA, records are destroyed after 1 year.

System manager(s) and address:

Director, DLA Human Resources Center-Military, Military Personnel and Administration (DHRC-M), 8725 John J. Kingman Road, Suite 2533, Fort Belvoir, VA 22060-6221, and the Heads of the DLA Primary Level Field Activities.

Notification procedure:

Individuals seeking to determine whether information about themselves is contained in this system should address written inquiries to the DLA Privacy Office, Headquarters, Defense Logistics Agency, Attn: DGA, 8725 John J. Kingman Road, Suite 1644, Fort Belvoir, VA 22060-6221.

Inquiries should contain the individual's full name, SSN, mailing address and telephone number.

Record access procedures:

Individuals seeking access to information about themselves contained in this system should address written inquiries to the DLA Privacy Office, Headquarters, Defense Logistics Agency, Attn: DGA, 8725 John J. Kingman Road, Suite 1644, Fort Belvoir, VA 22060-6221.

Inquiries should contain the individual's full name, SSN, mailing address and telephone number.

Contesting record procedures:

The DLA rules for accessing records, for contesting contents, and appealing initial agency determinations are contained in 32 CFR part 323, or may be obtained from the DLA Privacy Office, Headquarters, Defense Logistics Agency, Attn: DGA, 8725 John J. Kingman Road, Suite 1644, Fort Belvoir, VA 22060-6221.

Record source categories:

Information is provided by the individual, taken from military personnel records, and position distribution reports.

Exemptions claimed for the system:

None.

[FR Doc. 2011-4929 Filed 3-3-11; 8:45 am]

BILLING CODE 5001-06-P